DEPARTMENT OF THE INTERIOR

Bureau of Land Management

[LLNM006220. L99110000. EK0000; OMB Control Number 1004-0179]

Renewal of Approved Information Collection

AGENCY: Bureau of Land Management, Interior.

ACTION: 30-day notice and request for comments.

SUMMARY: The Bureau of Land Management (BLM) has submitted an information collection request to the Office of Management and Budget (OMB) for a 3-year extension of OMB Control Number 1004-0179 under the Paperwork Reduction Act. This control number includes paperwork requirements in regulations that provide the authority for the BLM to collect helium sales information from Federal agencies and helium suppliers of major helium requirements, in order to balance crude helium purchases from the BLM with sales of helium to Federal agencies.

DATES: The OMB is required to respond to this information collection request within 60 days but may respond after 30 days. Therefore, written comments should be received on or before March 10, 2011 in order to be assured of consideration.

ADDRESSES: Please submit comments directly to the Desk Officer for the Department of the Interior (OMB #1004-0179), Office of Management and Budget, Office of Information and Regulatory Affairs, fax 202-395-5806, or by electronic mail at oira_docket@omb.eop.gov. Please provide a copy of your comments to the BLM via mail, fax, or electronic mail.

Mail: Bureau Information Collection Clearance Officer (WO-630), Department of the Interior, 1849 C Street, NW., Mail Stop 401 LS, Washington, DC 20240.

Fax: Jean Sonneman at 202-912-7102.

Electronic mail: jean_sonneman@blm.gov.

FOR FURTHER INFORMATION CONTACT: You may contact Libby Conner, at 806-356-1027. Persons who use a telecommunication device for the deaf (TDD) may call the Federal Information Relay Service (FIRS) on 1-800-877-8339. You may also contact Ms. Conner to obtain a copy, at no cost, of the regulations and forms that require this collection of information.

SUPPLEMENTARY INFORMATION: The following information is provided for the information collection:

Title: Helium Contracts (43 CFR 3195).

OMB Number: 1004-0179.

Type of Review: Extension of a currently approved information collection.

Abstract: This collection of information pertains to the Helium Privatization Act of 1996, which provides that only authorized contractors may sell helium to Federal agencies. The BLM uses this information to verify that authorized contractors are in compliance with the Helium Privatization Act. In order to become an authorized contractor, a helium supplier must enter into an In-Kind Crude Helium Sales Contract to purchase from the Secretary of Interior amounts of crude helium that are equivalent to amounts the supplier sells to agencies of the Federal Government. 50 U.S.C. 167d. In the past, the BLM provided Form 1422x-922 for respondents to comply with some of these requirements, but the pertinent regulations do not require that they use the form. The respondents have demonstrated compliance with the Helium Privatization Act without using the form and the BLM has determined that the form is no longer necessary to collect information. As a result, the BLM has decided to eliminate Form 1422X-922, although the BLM will continue to require respondents to submit pertinent information through written or electronic means as required by 43 CFR part 3195. The BLM uses the information for reporting and recordkeeping. Responses are required to obtain a benefit.

Frequency of Collection: Quarterly and annually.

Annual Burden Hours: 32 responses with 3.25 hours per response totals 104 burden hours.

Annual Non-hour Burden Cost: There are no processing fees associated with this collection.

Comments: As required in 5 CFR 1320.8(d), the BLM published the 60-day notice in the Federal Register on June 14, 2010 (75 FR 33632) soliciting comments from the public and other interested parties. The comment period closed on August 13, 2010. The BLM did not receive any comments from the public in response to this notice, and did not receive any unsolicited comments.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB Control Number 1004-0179 in your correspondence. Before including your address, phone number, e-mail address, or other personal identifying information in your comment, be aware that your entire comment—including your personal identifying information—may be made publicly available at any time. While you can ask us in your comment to withhold your personal identifying information from public review, we cannot guarantee that we will be able to do so.

Jean Sonneman,
Information Collection Clearance Officer.

[FR Doc. 2011-2709 Filed 2-7-11; 8:45 am]

BILLING CODE 4310-84-P